DEPARTMENT OF COMMERCE

National Oceanic and Atmospheric Administration

[I.D. 052104F]

Endangered and Threatened Species: Take of Threatened West Coast Salmonids

AGENCY: National Marine Fisheries Service (NMFS), National Oceanic and Atmospheric Administration (NOAA), Commerce.

ACTION: Notice of Availability of Draft Environmental Assessment (EA) and Request for Comments.

SUMMARY: Notice is hereby given of the availability of a draft EA for NMFS' June 2004 proposed amendments to the Endangered Species Act (ESA) protective regulations for West Coast threatened salmon and steelhead (Oncorhynchus spp.) The ESA protective regulations provide for “limits” on ESA prohibitions for specified categories of activities determined to contribute to conserving listed salmonids. The draft EA analyzes the impacts of: (1) revising and simplifying existing protective regulations so that all threatened West Coast salmon and steelhead are subject to the same limits, and (2) revising the current protective regulations so that the section 9 take prohibitions do not apply to adipose-fin-clipped hatchery fish and resident O. mykiss (rainbow trout). NMFS is furnishing this notification to allow other agencies and the public an opportunity to review and comment on the draft EA. All comments received will become part of the public record and will be available for review.

DATES: All comments on the draft EA must be received no later than 5 p.m. Pacific Standard Time on December 15, 2004.

ADDRESSES: Copies of the draft EA are available on the Internet at http://www.nwr.noaa.gov/1salmon/salmesa/draft4dEA.html, or upon request (see FOR FURTHER INFORMATION CONTACT).

You may submit comments on the draft EA by any of the following methods:

E-mail: The mailbox address for submitting e-mail comments on the draft EA is salmon.draft4dEA@nwr.noaa.gov. Please include in the subject line of the e-mail comment the document identifier “Draft 4(d) EA”

Mail: Submit written comments and information to Chief, NMFS, Protected Resources Division, 525 NE Oregon Street, Suite 500, Portland, Oregon, 97232-2737. Please identify the comment as regarding the “Draft 4(d) EA.” You may hand-deliver written comments to our office at the street address below. Business hours are 8 a.m. to 5 p.m., Monday through Friday, except Federal holidays.

Hand Delivery/Courier: NMFS, Protected Resources Division, 525 NE Oregon Street, Suite 210, Portland, Oregon, 97232-2737. Business hours are noted above.

Fax: 503-230-5435. Please identify the fax comment as regarding the “Draft 4(d) EA.”

FOR FURTHER INFORMATION CONTACT: NMFS, Northwest Region, Protected Resources Division by phone at (503) 872-2791. Copies of the Federal Register notices cited herein and additional salmon-related materials are available on the Internet at http://www.nwr.noaa.gov.

SUPPLEMENTARY INFORMATION:

Species Covered in This Notice

The following species and Evolutionarily Significant Units (ESUs) are covered in this notice:

Chinook salmon (O. tshawytscha): the Sacramento River winter-run, Central Valley spring-run, California Coastal, Upper Willamette River, Lower Columbia River, Puget Sound, Snake River fall-run, and Snake River spring/summer-run chinook ESUs;

Coho salmon (O. kisutch): Southern Oregon/Northern California Coast, Oregon coast, and Lower Columbia River coho ESUs;

Sockeye salmon (O. nerka): the Ozette Lake sockeye ESU;

Chum salmon (O. keta): the Columbia River and Hood Canal summer-run chum ESUs;

Steelhead and rainbow trout (O. mykiss): South-Central California Coast, Central California Coast, California Central Valley, Northern California, Upper Willamette River, Lower Columbia River, Middle Columbia River, Snake River Basin, and Upper Columbia River O. mykiss ESUs.

Background

On June 14, 2004, NMFS published proposed ESA listing determinations for 27 ESUs of salmon and O. mykiss (69 FR 33101). NMFS proposed threatened status for 23 ESUs in California, Oregon, Washington, and Idaho, and as part of that rulemaking also proposed amendments to the existing 4(d) protective regulations for threatened salmon and steelhead ESUs. The National Environmental Policy Act (NEPA) requires that Federal agencies conduct an environmental analysis of their actions to determine if the actions may affect the human environment. Accordingly, NMFS has prepared a draft EA that analyzes the impacts of the proposed amendments to the 4(d) protective regulations for West Coast salmonids, and is making it available for public review and comment.

This draft EA analyzes two alternatives: (1) No Action (no revision to the current 4(d) protective regulations); and (2) the Proposed Action Alternative (revision and simplification of existing 4(d) protective regulations). The Proposed Action Alternative includes the following amendments:

Apply the 4(d) protections and 14 limits promulgated in 2000 (as modified in the proposed amendments) to three ESUs being newly proposed for threatened status; Apply the same 4(d) protections and 14 limits promulgated in 2000 (as modified in proposed amendments) to all threatened ESUs; Amend an expired 4(d) limit which provided a temporary exemption for ongoing research with pending permit applications during the 2000 4(d) rulemaking, to temporarily exempt ongoing research during the current rulemaking process; Move the description of the limit for Tribal Resource Management Plans (§ 223.209) so that the text would appear next to the 4(d) rule in the Code of Federal Regulations, improving the clarity of the 4(d) regulations; and Amend the current 4(d) rule so that the section 9(a) take prohibitions apply to anadromous fish with an intact adipose fin only (that is, the take prohibitions and 4(d) protective regulations would not apply to unclipped hatchery fish or resident O. mykiss included in the subject ESUs).

Because the proposed action creates an optional ESA process, the effects that it may generate are limited to those associated with amending the 4(d) protective regulations. The proposed action does not address the potential effects of individual activities or programs that may seek coverage under one of the 4(d) “limits.” It is impossible to anticipate the specific impacts of such programs that may be submitted to and approved by NMFS. NMFS will conduct further NEPA analyses as necessary when a specific program is submitted to NMFS for coverage under one of the 4(d) limits for West Coast salmonids.

This notice is provided pursuant to the NEPA regulations (40 CFR 1506.6). The final NEPA determinations will not be completed until after the end of the 30-day comment period and after NMFS has fully considered all comments received during the public comment period.

Authority: 16 U.S.C. 1531 et seq.

Dated: November 9, 2004.
Laurie K. Allen,
Director, Office of Protected Resources, National Marine Fisheries Service.

[FR Doc. 04-25313 Filed 11-12-04; 8:45 am]

BILLING CODE 3510-22-S